EXECUTIVE OFFICE OF THE PRESIDENT

Office of National Drug Control Policy

DEPARTMENT OF JUSTICE

Office of Juvenile Justice and Delinquency Prevention

[OJP (OJJDP)-1260]

Drug-Free Communities Support Program

AGENCY: Office of National Drug Control Policy, EOP, and Office of Justice Programs, Office of Juvenile Justice and Delinquency Prevention, Justice.

ACTION: Notice of funding availability.

SUMMARY: Notice is hereby given that the Executive Office of the President, Office of National Drug Control Policy (ONDCP), and the Department of Justice, Office of Juvenile Justice and Delinquency Prevention (OJJDP), pursuant to the provisions of the Drug-Free Communities Act of 1997, June 27, 1997 (Public Law 105-20), are collaborating through the Drug-Free Communities Support Program to reduce substance abuse among youth and, over time, among adults, by addressing the factors in a community that serve to increase the risk of substance abuse and the factors that serve to minimize the risk of substance abuse; and establish and strengthen collaboration among communities, including Federal, State, local, and tribal governments and private nonprofit agencies to support community coalition efforts to prevent and reduce substance abuse among youth. This will be achieved through (1) serving as a catalyst for increased citizen participation and greater collaboration among all sectors and organizations of a community; (2) enhancing community efforts to promote and deliver effective substance abuse prevention strategies among multiple sectors of the community; (3) assessing the effectiveness of community substance abuse reduction initiatives directed toward youth; and (4) providing information about effective substance abuse reduction initiatives for youth that can be replicated in other communities.

Eligible applicants are community coalitions whose members have worked together on substance abuse reduction initiatives for a period of not less than 6 months. The coalition will use entities such as task forces, subcommittees, community boards, and any other community resources that will enhance the coalition's collaborative effort. With substantial participation from community volunteer leaders, the coalition will design substance abuse initiatives that target illegal drugs such as narcotics, depressants, stimulants, hallucinogens, cannabis, inhalants, alcohol, tobacco, or other related products that are prohibited by Federal, State, or local law. Community coalitions must implement multisector, multistrategy, long-term plans designed to reduce substance abuse among youth. Where applicable, proposed Drug-Free Communities Support Program activities should enhance ongoing plans and contribute to the achievement of long-range goals and objectives. Coalitions may be umbrella coalitions serving multicounty areas. However, no statewide grants will be awarded.

The Drug-Free Communities Act authorizes the following amounts to be appropriated to ONDCP for the Drug-Free Communities Support Program: FY 1998—$10 million; FY 1999— $20 million; FY 2000—$30 million; FY 2001—$40 million; and FY 2002—$43.5 million. In FY 2000, the Drug-Free Communities Support Program will provide an estimated $28.8 million to support community coalitions with an additional $1.2 million supporting administrative costs. The FY 2000 appropriation will provide continuation funding of up to approximately $19.9 million for existing grantees. The remaining funds, approximately $8.9 million, will fund an estimated 90 new coalitions with awards of up to $100,000. These awards will be made available through a competitive grant process, to be administered by OJJDP through an interagency agreement with ONDCP.

DATES: Applications under this program must be received no later than 5 p.m. ET, May 9, 2000.

ADDRESSES: The Application Package is available through the ONDCP Clearinghouse at 800-666-3332 and the Juvenile Justice Clearinghouse at 800-638-8736. The Application Package can also be obtained online at the ONDCP and OJJDP Web sites at http://www.whitehousedrugpolicy.gov/prevent/drugfree.html and http://ojjdp.ncjrs.org/grants/current.html.

FOR FURTHER INFORMATION CONTACT: Lauren Ziegler, Program Coordinator, Office of Juvenile Justice and Delinquency Prevention, 810 7th Street, NW, Washington, DC 20531, 202-616-8988; e-mail: Zieglerl@ojp.usdoj.gov, or Mark Morgan, Program Manager, Office of Juvenile Justice and Delinquency Prevention, 810 7th Street, NW, Washington, DC 20531, 202-353-9243; e-mail: Morganm@ojp.usdoj.gov.

SUPPLEMENTARY INFORMATION:

Purpose

The purpose of this program is to increase citizen participation and strengthen community antidrug coalition efforts to reduce substance abuse among youth in communities throughout the United States and, over time, to reduce substance abuse among adults.

The Drug-Free Communities Support Program is specifically designed to:

• Reduce substance abuse among youth and, over time, among adults.

• Enable community coalitions to strengthen collaboration among Federal, State, regional, local, and tribal governments and within their representative communities.

• Enhance intergovernmental collaboration, cooperation, and coordination among all sectors and organizations within communities that demonstrate a long-term commitment to reducing substance abuse among youth and, over time, among adults.

• Enable communities to conduct data-driven, research-based prevention planning by providing accurate and timely information regarding state-of-the-art practices and initiatives that have proven to be effective in reducing substance abuse among youth.

• Focus resources from the FY 2000 Federal drug control budget to provide technical assistance, guidance, and financial support to communities.

Background

On June 27, 1997, the Drug-Free Communities Act (Public Law 105-20) was signed into law by President Clinton. This Act provides financial assistance and support to community coalitions to carry out the mission of reducing substance abuse among the Nation's youth. This Act responded to the doubling of substance abuse among youth in the 5-year period from 1991 to 1996, with substantial increases seen in the use of marijuana, inhalants, cocaine, methamphetamine, LSD, and heroin.

The U.S. General Accounting Office (GAO) found that research has identified promising collaborative efforts that use multiple societal institutions, including schools, families, media, and the community, working together to carry out comprehensive, multicomponent approaches to substance abuse prevention involving school-age youth. GAO also found that these multisector collaborators effectively use multiple strategies, including information dissemination, skill building, alternative approaches to substance abuse reduction, social policy development, and environmental approaches, in their activities. The multisector, multistrategy approach, involving public and private agencies, organizations, and private citizens, is a necessary characteristic of any successful coalition.

The Drug-Free Communities Act builds on the documented success of community antidrug coalitions in developing and implementing comprehensive, long-term strategies to reduce substance abuse among youth on a sustained basis. The Act recognizes the critical value of intergovernmental collaboration, cooperation, and coordination in facilitating the reduction of substance abuse among youth in communities throughout the Nation.

The Drug-Free Communities Act authorizes the following amounts to be appropriated to the Office of National Drug Control Policy (ONDCP) for the Drug-Free Communities Support Program: FY 1998—$10 million; FY 1999—$20 million; FY 2000—$30 million; FY 2001—$40 million; and FY 2002—$43.5 million. In FY 2000, the Drug-Free Communities Support Program received an appropriation of $30 million. The program will provide an estimated $28.8 million to support community coalitions with an additional $1.2 million supporting administrative costs. The FY 2000 appropriation will provide continuation funding of up to approximately $19.9 million for existing grantees. The remaining funds, approximately $8.9 million, will fund an estimated 90 new coalitions with awards of up to $100,000. These awards will be made available by the Office of Juvenile Justice and Delinquency Prevention (OJJDP) through an interagency agreement with ONDCP.

Contingent on funding availability and performance, current Drug-Free Communities Support Program grantees will have the opportunity to apply for continuation funding through separate program guidelines, which are expected to be released in February 2000 through OJJDP. To ensure sustainability of the programs, ONDCP and OJJDP have designed a funding formula that gradually reduces the amount of award over the life of the program. In the second year of award and upon successful reapplication, grantees are eligible to maintain their funding levels at 100 percent of the original award. In the third year of award and upon successful reapplication, current grantees would receive a maximum grant of $75,000 (a 25-percent reduction from the original maximum award). Exceptions in declining levels of support beginning in FY 2000 will be made for grantees awarded $66,666 or less in FY 1998 (i.e., no grantee who received an award between $50,000 and $66,666 would receive less than a $50,000 award in any grant year). Any grantee that received an award of $50,000 or less in FY 1998 will receive that amount throughout the life of the program, subject to performance and availability of funds.

For new applicants, FY 2000 Drug-Free Communities Support Program grants will be available for amounts up to $100,000 for the initial 12-month period. Drug-Free Communities Support Program grants require that applicants provide a dollar-for-dollar match. There are no guidelines as to how much of the match must be in cash or in kind. Please note that Federal funds, including Federal funds passed through a State or local government, cannot be used.

Definitions are contained in the Drug-Free Communities Act. (The Act is available online at ftp://ftp.loc.gov/pub/thomas/c105/h956.enr.txt; ONDCP's Web site at www.whitehousedrugpolicy.gov/ prevent/highlights.html; and OJJDP's Web site at www.ojjdp.ncjrs.org/programs/drugfree.html.) In addition, the glossary at the end of this notice defines key terms that are referenced in the Act.

Goals

• Reduce substance abuse among youth and, over time, among adults, by addressing the factors in a community that serve to increase the risk of substance abuse and the factors that serve to minimize the risk of substance abuse. These substances include narcotics, depressants, stimulants, hallucinogens, cannabis, inhalants, alcohol, and tobacco, where their use is prohibited by Federal, State, or local law.

• Establish and strengthen collaboration among communities; Federal, State, local, and tribal governments; and private nonprofit agencies to support community coalition efforts to prevent and reduce substance abuse among youth.

Objectives

• Serve as a catalyst for increased citizen participation and greater collaboration among all sectors and organizations of a community to reduce substance abuse among youth.

• Enhance community efforts to promote and deliver effective substance abuse prevention strategies among multiple sectors of the community.

• Assess the effectiveness of community substance abuse reduction initiatives directed toward youth.

• Provide information about effective substance abuse reduction initiatives for youth that can be replicated in other communities.

Project Strategy

Eligible applicants are community coalitions whose members have worked together on substance abuse reduction initiatives for a period of not less than 6 months. The coalition will use entities such as task forces, subcommittees, community boards, and any other community resources that enhance its collaborative effort. With substantial participation from community volunteer leaders, the coalition will design substance abuse initiatives that target drugs such as narcotics, depressants, stimulants, hallucinogens, cannabis, inhalants, alcohol, tobacco, or other related products that are prohibited for youth by Federal, State, or local law. Community coalitions must implement multisector, multistrategy plans designed to reduce substance abuse among youth in the long term. Where applicable, proposed Drug-Free Communities Support Program activities should enhance ongoing plans and contribute to the achievement of long-range goals and objectives. Coalitions may be umbrella coalitions serving multicounty areas. However, no statewide grants will be awarded.

A 4-year strategic plan must be included in the application. This plan must outline the mission, goals, objectives, activities, and expected outcomes of the applicant's Drug-Free Communities Support Program project. The plan must address the two major goals of the program listed above: (1) Reduce substance abuse among youth and, over time, among adults; and (2) establish and strengthen collaboration among communities; Federal, State, local, and tribal governments; and private nonprofit agencies to support community coalition efforts to prevent and reduce substance abuse among youth. The project plan must ensure that the coalition, its programs, and the activities operated by the partners in the coalition will become self-sustaining within 4 years. The plan must identify 4-year and 1-year goals, objectives, and expected outcomes. In addition, the applicant must include a 4-year and 1-year timeline outlining the tasks associated with achieving the program goals and objectives. The timeline must delineate all activities, identify the coalition members that conduct the activities, and show projected completion dates for proposed activities.

The applicant must describe how a Drug-Free Communities Support Program grant will enhance its ability to provide broader and more comprehensive prevention services. The discussion should include outcome-driven information on substance abuse reduction activities currently being conducted by the coalition or members of the coalition that enhance planning efforts to minimize duplication and inefficiencies while maximizing cooperation and collaboration. Applicants must include a description of new services and activities that would be established over the 4-year plan period. The plan must emphasize coalition building and maintenance as the mechanism that provides institutional support and access to a broad range of services available in the community.

Project Evaluation

To assess the effectiveness of the project, the plan must provide for evaluation of local efforts designed to strengthen the coalition and reduce substance abuse. The coalition must also agree to participate in a national evaluation of the Drug-Free Communities Support Program by providing process and outcome data.

Process indicators allow grantees to answer the following questions: What was done? How was it done? To whom and for whom was it done? Process indicators include the following:

• A description of the project, service, or activity. (What goes on?)

• Project, service, or activity location. (Where does it occur?)

• Hours of operation, days of the week, and hours of the day the activity occurs. (When does it occur?)

• Frequency of activity. (How often does it occur: hourly, daily, weekly, monthly?)

• Number of paid staff and volunteers. (Who carries out the activity?)

• Target population including ages, number of youth reached, and other defining characteristics. (Who receives the service?)

For example, if one of the applicant's project objectives is to delay the onset of youth usage of alcohol by 6 months and one activity used to achieve this objective is to conduct three parent/youth skill-building classes per month in three local churches, the applicant must collect information describing the activity and documenting how often the activity occurred, how many youth participated in the activity, and how often the parent and youth attended the activity.

Outcome indicators help to determine if the program is achieving intended results. The applicant must identify the indicators of success and indicate how success will be measured and how data will be collected. Outcome indicators include the following:

• Change in youth substance abuse.

• Improvement in the level of collaboration among communities and Federal, State, local, and tribal governments (e.g., increased number of interagency agreements).

• Enhancement of intergovernmental cooperation and coordination on youth substance abuse issues (e.g., adoption and use of an integrated management information system to share data on youth substance abuse).

• Increase in citizen participation in substance abuse prevention efforts.

• Enhancement of prevention planning and prevention efforts (e.g., data-driven needs assessment and comprehensive, research-based strategies that address identified needs).

• Improvement in or enhancement of knowledge, skills, abilities, conditions, systems, or policies as a result of improved prevention efforts.

• Change in factors contributing to and reducing the risk of substance abuse including attitudes and perceptions.

Coalitions will be required to report data for community-specific measures and a common data set for the national evaluation.

National Evaluation

Grantees must collect and report community-specific, common process, and outcome indicators following evaluation protocols established by ONDCP and OJJDP. Baseline and followup data needed for the national evaluation will be collected from grant applications, OJJDP's semiannual Categorical Assistance Progress Report, and onsite surveys of a sample of grantees.

Grantees may be required to confirm the accuracy of any data retrieved from grant applications for the national evaluation. In addition, all grantees are required to describe and provide baseline and followup data documenting the factors within their communities that increase the risk of substance abuse by youth and the factors that work to minimize or reduce risk. Grantees also should provide data documenting the incidence and prevalence of substance abuse among youth in their communities. Baseline data must be representative of the targeted population as of the application deadline.

In addition to data specific to the coalitions and their communities, a small, common set of data profiling youth within the areas the coalitions serve will be required of all grantees. These measures include:

• Age at onset/initiation.

• Frequency of use in the past 30 days.

• Perception of risk of harm.

• Perception of disapproval of use by peers and adults.

Specific measures of age at onset/frequency of use will be consistent with indicators reported in the Substance Abuse and Mental Health Services Administration's National Household Survey on Drug Abuse, Main Finding 1998, volume I, Population Estimates, and volume II, Summary of Findings, NIH Publication Numbers BKD 331 and BKD 332, respectively. Specific measures of the perception of harm of use and disapproval will be consistent with indicators reported in the National Institute on Drug Abuse's National Survey Results on Drug Use from the Monitoring the Future Study, 1975-1998, volume I, Secondary School Students, and volume II, College Students and Young Adults, NIH Publication Numbers 99-4660 and 99-4661, respectively. These documents are available from the National Clearinghouse for Alcohol and Drug Information by calling 800-729-6686.

A sample of grantees will be selected to participate in an indepth evaluation. Selected grantees will work with the national evaluation team to collect and report additional process and outcome data.

For the national evaluation, baseline data must be representative of the targeted population. The source of data, population surveyed, and date of the survey must be noted.

Eligibility Requirements

To be eligible to receive a grant, a coalition must:

• Be a nonprofit, charitable, or educational organization; a unit of local government; or part of or affiliated with an eligible organization or entity.

• Develop a 4-year strategic plan, or enhance an existing plan, to reduce substance abuse among youth using a multisector, multistrategy approach.

• Have as its principal mission the reduction of substance abuse among youth in a comprehensive and long-term manner.

• Demonstrate that community coalition members have worked together on substance abuse reduction initiatives, including initiatives that target the illegal use or abuse of a range of drugs, such as narcotics, depressants, stimulants, hallucinogens, cannabis, inhalants, alcohol, tobacco or other related products, where such use is prohibited by Federal, State, or local law. The applicant must ensure that the project does not focus on only one specific drug.

• Describe and document the nature and extent of the substance abuse problem in the targeted community and identify the risk and protective factors existing in the community.

• Identify substance abuse programs and service gaps relating to the use and abuse of drugs.

• Demonstrate that a community coalition has been established and that the representatives of the community coalition have worked together for a period of not less than 6 months. The coalition must represent the targeted community and include at least one representative of each of the following groups: youth; parents; business community; media; schools; youth-serving organizations; law enforcement agencies; religious or fraternal organizations; civic and volunteer groups; health care professionals; State, local, or tribal governmental agencies with expertise in the field of substance abuse (including, if applicable, the State authority with primary authority for substance abuse); and other organizations involved in reducing substance abuse. To demonstrate that the coalition meets the stated criteria, the applicant must submit examples or formal agreements such as memorandums of understanding (MOU's), previous newsletters/publications, or other examples of print media coverage that are dated within 6 months prior to application submittal.

• Ensure that a community coalition member is designated as a representative of no more than one of the required sector categories.

• Identify and describe the agencies, programs, projects, and initiatives (other than those represented by coalition members) that the coalition will collaborate and coordinate with to leverage services and resources to have the greatest impact.

• Ensure that there is a substantive community involvement effort, as demonstrated by the significant ongoing participation of community partners to build a consensus on priorities to combat substance abuse among youth.

• Ensure that the coalition will receive and expend cash or in-kind services equal to the amount of the Federal funds sought.

• Describe the strategic plan and funding plan to solicit substantial financial support from non-Federal sources to ensure that the coalition will be self-sustaining within 4 years.

• Submit local evaluation plans for assessing coalition efforts. In addition, the applicant must agree to participate in a national evaluation.

• Agree to collect and report both target population-specific and common process and outcome indicators following evaluation protocols established by ONDCP and OJJDP.

Consideration will also be given to how the applicant incorporates strategies and services that increase cultural competency to reach and include minority populations.

Selection Criteria

Applicants whose proposals meet all eligibility criteria and submission requirements will be evaluated and rated by a peer review panel according to the criteria outlined below. A critical element checklist to aid applicants in fulfilling all requirements is provided in appendix A of the Application Package. (See ADDRESSES earlier in this notice for information on how to obtain the Application Package.)

Problems To Be Addressed (20 points)

The applicant must indicate how its coalition, through collaborative efforts, long-term strategic planning, and implementation efforts, will reduce substance abuse among youth and, over time, among adults. The applicant also must provide a discussion of substance abuse in the target community. This discussion should address:

• The nature and extent of youth substance abuse, such as the use of narcotics, depressants, stimulants, hallucinogens, cannabis, inhalants, alcohol, and tobacco or other related products, where such use is prohibited by Federal, State, or local law in the target community.

• Risk factors that enable substance abuse and protective factors that act as deterrents to substance abuse in its community.

The discussion in this section should indicate the following: the incidence/prevalence of substance abuse among youth in the target community, the major drugs of abuse among youth, and the underlying risk factors associated with substance abuse. The applicant must provide findings from recent school-based surveys or other local surveys of drug usage that document the nature and extent of juvenile substance abuse problems in the area served by the coalition. If such survey data are not available, the applicant must report other indicators that measure the extent of the problem. Other local data include crime, justice, health, HIV/AIDS, economic, school, and other related statistics. The data will be used as the baseline against which the progress and effectiveness of coalition efforts to prevent and reduce substance abuse among youth can be measured.

Goals and Objectives (20 points)

The applicant must address the two major goals of the program: to reduce substance abuse and strengthen collaboration. Objectives and expected outcomes must be related to the goals, and they must be measurable, consistent with local data, achievable, and reflected in the timeline. The applicant must provide a clear discussion of how the proposed goals and objectives logically relate to the risk and protective factors.

The coalition should clearly state what it proposes to accomplish with a Drug-Free Communities Support Program grant. The applicant must describe the desired end result (the outcome). In defining the objectives, the applicant must describe, in concrete terms, who or what will change, how much it will change, over what period of time, and who (coalition member/s) will effect this change.

Program Design (25 points)

The applicant must provide a detailed description of the proposed program design to achieve the project's goals and objectives and explain how program activities address the problems associated with the risk and protective factors. Consideration will also be given to the cultural relevance of the proposed activities.

The program design must describe the logical links between project goals, objectives, activities, and expected outcomes. In describing these links, the applicant should consider which goals and objectives will be attained by which activities. The plan must include a description of the specific steps and provide a timeline outlining those steps associated with implementing the Drug-Free Communities Support Program. A sample logic model is provided on page 25 of the Application Package as a framework for structuring the program design. (See ADDRESSES earlier in this notice for information on how to obtain the Application Package.)

The evaluation strategy must specifically address how the applicant will monitor progress toward achieving the project goals and objectives. The applicant must describe what data are required, how it will collect information on the activities that are undertaken (process indicators), and what results are achieved (outcome indicators). The applicant must discuss its process for monitoring progress and determining if the project is meeting coalition and Federal requirements. Key elements of the applicant evaluation strategies are outlined in the “Project Evaluation” section.

Management and Organizational Capability (25 points)

The applicant must describe who will lead the development and implementation of the strategic plan and its associated program activities and how the coalition will implement the drug abuse prevention strategies. The applicant must identify all principal individuals and their positions in the project management design and include résumés or biographies of all key personnel. If an individual has not been identified to fill a position outlined in the application, the applicant must provide a job description outlining the roles and responsibilities of the position. A roster must be completed containing the names of all coalition members, the sectors they represent, and their contributions to the work of the coalition. Members must include youth; parents; businesses; media; schools; organizations serving youth; law enforcement; religious or fraternal organizations; civic or volunteer groups; health care professionals; State, local, or tribal government agencies with expertise in the field of substance abuse; and other organizations involved in reducing substance abuse. This coalition list must also include a description of other public and private resources that will work in collaboration with the coalition to accomplish the overall goals of the Drug-Free Communities Support Program.

Memorandums of Understanding (MOU's) must be provided in the appendixes for all coalition members who will provide services to the coalition. MOU's demonstrate the intent of two or more entities to fulfill commitments that are critical to the implementation of the project. A sample MOU is found on page 26 of the Application Package. (See ADDRESSES earlier in this notice for information on how to obtain the Application Package.) Letters of support should be solicited from corresponding agencies, service providers, organizations, or community leaders that are involved with the coalition but are not members. These letters demonstrate community support of the project and coalition. MOU's and letters of support should be signed originals that are current (within the previous year) and relevant to the grant application.

The applicant must demonstrate that staff involved in the project have the experience and knowledge necessary to successfully undertake the proposed project. The applicant must provide evidence of the staff's ability to manage the collaborative effort of coalition members and collaborative partners to meet program goals. The applicant also should clearly indicate who will perform what function(s) and by when (based on the timeline deliverable). In an effort to demonstrate organizational capacity, applicants may include past performance information, including any outcome data from previous activities.

The applicant must include a one-page organizational chart, with the management structure, of staff and coalition members. If available, titles and names of individuals should be provided.

Consideration will be given to a coalition's ability to work effectively with all segments of the community, its associated collaborative partners, OJJDP and ONDCP, the evaluation team, and the training and technical assistance providers involved in this program. The applicant must describe how it will manage the non-Federal resources brought to the project.

Budget (10 points)

The applicant must provide a proposed budget that is complete, detailed, reasonable, allowable, and cost effective in relation to the activities to be undertaken. A cost breakdown of both Federal and non-Federal costs and in-kind contributions must be included. Budgets must allow for required travel, including (1) one trip for two individuals to the annual grantee conference in Washington, DC, and (2) one trip for two individuals to a training and technical assistance meeting within the applicant's region.

Format

The narrative portion of this application must not exceed 40 pages in length (excluding forms, assurances, and appendixes) and must be submitted on 8½ by 11-inch paper, double-spaced on one side of the paper in a standard 12-point font. These standards are necessary to maintain a fair and uniform standard among all applicants. If the narrative does not conform to these standards, the application will be ineligible for consideration. Do not enclose the application in binders or specialized packaging. Please do not include videos, audiotapes, or other unsolicited information.

Awards

The ONDCP Director, Drug-Free Communities Support Program Administrator, Drug-Free Communities Support Program Advisory Commission, and the OJJDP Administrator are committed to ensuring individual project success across a range of urban, suburban, rural, and tribal communities. Therefore, in selecting applicants, consideration will be given to achieving representative equity in geographic and demographic distribution of grants and to funding a variety of effective, innovative programs with varying lengths of operational experience. Although peer review recommendations are given weight, they are advisory only, and final award decisions will be made by the ONDCP Director and the OJJDP Administrator. OJJDP will negotiate specific terms of the award with applicants being considered for award.

Award requests must not exceed $100,000 with a dollar-for-dollar match, in cash or in kind, of the Federal amount requested. No community coalition or fiduciary agent may submit more than one application for consideration.

Award Period

The project will be funded initially for a 12-month budget period of a 36-month project period. Funding after the initial 12-month period depends on grantee performance, availability of funds, and other criteria established at the time of award.

Award Amount

Up to $100,000 will be available for the initial 12-month budget period. Drug-Free Communities Support Program grants require that applicants provide a dollar-for-dollar match. There are no guidelines as to how much of the match must be cash or in kind. Please note that Federal funds, including Federal funds passed through a State or local government, cannot be used.

Application Requirements

Instructions on filling out the required application forms are contained in the Application Package. (See ADDRESSES earlier in this notice for information on how to obtain the Application Package.) To enhance intergovernmental collaboration, cooperation, and coordination among all sectors and organizations within communities, a letter of intent must be sent to the Alcohol and Drug State Authority (this list of contacts is included in the Application Package, beginning on page 27). In addition, Executive Order 12372 requires applicants from State and local units of government or other organizations providing services to submit a copy of the application to the State Single Point of Contact, if one exists. This list is provided in the Application Package in appendix D.

Applicant Workshops

To provide assistance, training, and technical support in submitting applications for the Drug-Free Communities Support Program, five regional workshops are planned. Dates and locations of these workshops can be obtained online at the ONDCP and OJJDP Web sites: www.whitehousedrugpolicy.gov/ prevent/drugfree.html and www.ojjdp.ncjrs.org/grants/current.html.

Catalog of Federal Domestic Assistance Number

For this program, the Catalog of Federal Domestic Assistance number, which is required on Standard Form 424, Application for Federal Assistance, is 16.729. This form is included in appendix A of the Application Package. (See ADDRESSES earlier in this notice for information on how to obtain the Application Package.)

Coordination of Federal Efforts

To encourage better coordination among Federal agencies in addressing State and local needs, the U.S. Department of Justice is requesting applicants to provide information on the following: (1) Active Federal grant award(s) supporting this or related efforts, including awards from the U.S. Department of Justice; (2) any pending application(s) for Federal funds for this or related efforts; and (3) plans for coordinating any funds described in items (1) or (2) with the funding sought by this application. For each Federal award, applicants must include the program or project title, the Federal grantor agency, the amount of the award, and a brief description of its purpose. This information should be included in the appendix.

“Related efforts” is defined for these purposes as one of the following:

• Efforts for the same purpose (i.e., the proposed award would supplement, expand, complement, or continue activities funded with other Federal grants).

• Another phase or component of the same program or project (e.g., to implement a planning effort funded by other Federal funds or to provide a substance abuse treatment or education component within a criminal justice project).

• Services of some kind (e.g., technical assistance, research, or evaluation) to the program or project described in the application.

Delivery Instructions

All applications should be mailed or delivered to the Office of Juvenile Justice and Delinquency Prevention, c/o Juvenile Justice Resource Center, 2277 Research Boulevard, Mail Stop 2K, Rockville, MD 20850; 301-519-5535.

Note: In the lower left-hand corner of the envelope, you must clearly write “Drug-Free Communities Support Program.” Faxed or e-mailed applications will not be considered.

Due Date

Applicants are responsible for ensuring that the original and five copies of the application are received by 5 p.m. ET on May 9, 2000.

Contact

For further information, contact Lauren Ziegler, Program Coordinator, Special Emphasis Division, 202-616-8988, or send an e-mail inquiry to zieglerl@ojp.usdoj.gov; or contact Mark Morgan, Program Manager, Special Emphasis Division, 202-353-9243, or send an e-mail inquiry to morganm@ojp.usdoj.gov.

Glossary

Activities: Efforts to be conducted to achieve the identified objectives. A number of activities may be needed to achieve each objective (e.g., coordinate development and delivery of a multidisciplinary, multiagency program of parenting education for parents of elementary and middle school youth).

Allowable costs: Those costs identified in Office of Management and Budget (OMB) circulars on cost principles and in ONDCP legislation. In addition, costs must be reasonable, allowable, and necessary to the project and must comply with the funding statute requirements.

Center for Substance Abuse (CSAP): CSAP provides national leadership in the Federal effort to prevent alcohol, tobacco, and illicit drug problems. CSAP oversees the Centers for the Application of Prevention Technology, which provides training and technical assistance to Drug-Free Communities Support Program grantees through an interagency agreement with ONDCP and OJJDP.

Centers for the Application of Prevention Technology (CAPT): There are six regionally based CAPT's that provide training and technical assistance to Drug-Free Communities Support Program grantees. Their mission is to increase the availability and application of scientifically based substance abuse prevention technologies.

Coalition: Comprises one or more representatives of the following categories: youth; parents; businesses; media; schools; organizations serving youth; law enforcement; religious or fraternal organizations; civic or volunteer groups; health care professionals; State, local, or tribal government agencies with expertise in the field of substance abuse (including, if applicable, the State authority with primary authority for substance abuse); and other organizations involved in reducing substance abuse.

Community: People with a common interest living in a defined area. For the purposes of this grant, the coalition may define its community as a neighborhood, town, part of a county, county, or regional area.

Expected outcomes: The intended or anticipated results of carrying out these activities. There may be short-term, intermediate, and long-term outcomes.

• Short term.

• Participation in the development and delivery by agency leaders.

• Development of the multidisciplinary, multiagency program.

• Delivery of the multidisciplinary, multiagency program.

• Completion of the program by elementary and middle school youth.

• Intermediate.

• Increase in understanding of risks of substance use.

• Long term.

• Increase in understanding of risks of substance use.

• Increase in perception of harm.

• Delay in the onset of alcohol use among youth.

Goal: A broad statement of what the coalition project is intended to accomplish (e.g., delay in the onset of substance abuse among youth).

Impact: The ultimate desired results of efforts undertaken, manifesting as actual reductions in substance abuse among youth.

In-kind match: Something of value received other than money, such as donated services.

Multisector: More than one agency or institution working together.

Multistrategy: More than one prevention strategy, such as information dissemination, skill building, use of alternative approaches to substance abuse reduction, social policy development, and environmental approaches, working in combination with each other to produce a comprehensive plan.

Nonprofit: An organization described under section 501(c)(3) of the Internal Revenue Code of 1986 that is exempt from taxation under 501(a) of the Internal Revenue Code of 1986.

Objectives: What is to be accomplished during a specific period of time to move toward achievement of a goal, expressed in specific measurable terms. There may be numerous objectives for each goal identified (e.g., to increase the number of youth in elementary and middle school who perceive use of substances as a moderate or great risk by 20 percent within 3 years).

Office of Juvenile Justice and Delinquency Prevention (OJJDP): OJJDP provides national leadership, coordination, and resources to prevent juvenile victimization and to respond appropriately to juvenile delinquency. The agency accomplishes this by developing and implementing prevention programs and supporting a juvenile justice system that protects the public, holds juvenile offenders accountable, and provides treatment and rehabilitative services based on the needs of each individual juvenile. OJJDP is administering the Drug-Free Communities Support Program for ONDCP through an interagency agreement.

Office of National Drug Control Policy (ONDCP): ONDCP establishes policies, priorities, and objectives for the Nation's drug control program. The goals of the program are to reduce illicit drug use, manufacturing, and trafficking; drug-related crime and violence; and drug-related health consequences. Over a 5-year period, the Drug-Free Communities Act of 1997 has authorized $143.5 million for the Drug-Free Communities Support Program.

Protective factors: Those factors that increase an individual's ability to resist the use and abuse of drugs.

Resiliency factors: Personal traits that allow children to survive and grow into healthy, productive adults in spite of having experienced negative/traumatic experiences and high-risk environments.

Risk factors: Those factors that increase an individual's vulnerability to drug use and abuse.

Dated: February 23, 2000.
Gregory L. Dixon,
Administrator, Drug-Free Communities Support Program, Office of National Drug Control Policy.
Dated: February 22, 2000.
John J. Wilson,
Acting Administrator, Office of Juvenile Justice and Delinquency Prevention.

[FR Doc. 00-4623 Filed 2-28-00; 8:45 am]

BILLING CODE 4410-18-P